ENVIRONMENTAL PROTECTION AGENCY

[EPA-HQ-OAR-2021-0329; FRL-13139-01-OMS]

Agency Information Collection Activities; Submission to the Office of Management and Budget for Review and Approval; Comment Request; Certification and Compliance Requirements for Nonroad Spark-Ignition Engines (Renewal)

AGENCY: Environmental Protection Agency (EPA).

ACTION: Notice.

SUMMARY: The Environmental Protection Agency (EPA) has submitted an information collection request (ICR), Certification and Compliance Requirements for Nonroad Spark-Ignition Engines (EPA ICR Number 1695.15, OMB Control Number 2060-0338) to the Office of Management and Budget (OMB) for review and approval in accordance with the Paperwork Reduction Act. This is a proposed extension of the ICR, which is currently approved through December 31, 2025. Public comments were previously requested via the Federal Register on May 5, 2025, during a 60-day comment period. This notice allows for an additional 30 days for public comments.

DATES: Comments may be submitted on or before January 28, 2026.

ADDRESSES: Submit your comments, referencing Docket ID Number EPAHQ-OAR-2021-0329, to EPA online using www.regulations.gov (our preferred method), or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Julian Davis, Attorney Adviser, Compliance Division, Office of Transportation and Air Quality, Environmental Protection Agency, 2000 Traverwood, Ann Arbor, Michigan 48105; telephone number: 734-214-4029; fax number 734-214-4869; email address: davis.julian@epa.gov.

SUPPLEMENTARY INFORMATION: This is a proposed extension of the ICR, which is currently approved through December 31, 2025. An agency may not conduct or sponsor and a person is not required to respond to a collection of information unless it displays a currently valid OMB control number.

Public comments were previously requested via the Federal Register on May 5, 2025 during a 60-day comment period (90 FR 18979). This notice allows for an additional 30 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: This information collection is requested under the authority of Title II of the Clean Air Act (42 U.S.C. 7521 et seq.) Under this Title, EPA is charged with issuing certificates of conformity for those engines which comply with applicable emission standards. Such a certificate must be issued before engines may be legally introduced into commerce. To apply for a certificate of conformity, manufacturers are required to submit descriptions of their planned production line, including detailed descriptions of the emission control system, and test data.

Form Numbers:

Form name | Form No.
Annual Production Worksheet | 5900-90
Marine SI Production Line Testing Report | 5900-91
Marine SI Averaging, Banking, and Trading Report | 5900-92
Large SI In-Use Testing Report | 5900-93
Marine SI In-Use Testing Report | 5900-93
Large SI Production Line Testing Report | 5900-130
NR Small SI Averaging, Banking, and Trading Report | 5900-131
NR Small SI Production Line Testing Report | 5900-133
HDSI ABT Report | 5900-134
NR Small SI Bond Worksheet | 5900-450
NR Small SI Small Volume Bond Worksheet | 5900-451
Altitude Worksheet | 5900-452
Evaporative Fuel Cap Test Data | 5900-453
Evaporative Fuel Line Test Data | 5900-454
Evaporative Fuel Tank Data Worksheet | 5900-455
Marine and Large SI Diurnal System Data Worksheet | 5900-456
NR Small SI Equipment Worksheet | 5900-457
Marine SI Vessel Worksheet | 5900-458
Marine SI Engine Data Map Sheet | 5900-459
Snowmobile Production Line Testing Report | 5900-460
Snowmobile Certification Template | 5900-463
Rec Vehicle Catalytic Converter Checklist | 5900-464
Snowmobile Averaging, Banking, and Trading Template | 5900-465
Rec Vehicle Fuel Line Test Data Worksheet | 5900-466
Rec Vehicle Fuel Tank Test Data Worksheet | 5900-467
Recreational Vehicle PLT Report Final | 5900-New
HMC_RV_ABT_Template | 5900-New
ATV-UTV checklist | 5900-New
Replacement Engine Exemption Report | 5900-New
AECD Form | 5900-New

Respondents/affected entities: Respondents are manufacturers of nonroad engines within the following North American Industry Classification System (NAICS) code: 33618, 33612, 336999, 336991, 333112, 335312.

Respondent's obligation to respond: The respondent's obligation to respond is voluntary, but respondents who chose not to respond cannot obtain a Certificate of Conformity, and therefore cannot introduce their products into commerce in the U.S.

Estimated number of respondents: 393 (total).

Frequency of response: Yearly for certification, production, ABT, and warranty reports.

Total estimated burden: 1,390 hours (per respondent, per year). Burden is defined at 5 CFR 1320.3(b).

Total estimated cost: $102,388,928.41 (per year), includes $45,650,002.40 annualized capital or operation & maintenance costs.

Changes in the estimates: There is a decrease of 328 hours in the total estimated respondent burden compared with the ICR currently approved by OMB. This decrease is due largely to fewer respondents than the previous ICR and more manufacturers utilizing carrying over data from previous model years to demonstrate compliance with the standards.

Courtney Kerwin,
Deputy Director, Data and Enterprise Programs Division.

[FR Doc. 2025-23922 Filed 12-29-25; 8:45 am]

BILLING CODE 6560-50-P